DEPARTMENT OF AGRICULTURE

Forest Service

Cibola National Forest; New Mexico; Canadian River Tamarisk Control Project

AGENCY: Forest Service, USDA.

ACTION: Notice of intent to prepare an environmental impact statement.

SUMMARY: The Department of Agriculture, Forest Service has initiated the process to prepare an Environmental Impact Statement for the Canadian River Tamarisk Control Project on the Cibola National Forest, Kiowa National Grassland. The proposed action would restore the hydrologic function of the Canadian River by eradicating tamarisk (salt cedar) along the river corridor and tributaries, covering 16 miles (approximately 540 acres) that occur on Federal administrative lands. This proposal includes the use of a helicopter to aerially apply the herbicide imazapyr (common trade names Arsenal and Habitat) along with an approved surfactant and drift control agent, and/or use mechanical treatments and backpack sprayers to apply the same herbicide to cut stumps in designated areas. The objective is to eradicate tamarisk from this section of the Canadian River and promote the re-establishment of native riparian vegetation and habitat conditions for wildlife.

Salt cedar has actively invaded the riparian area along the Canadian River, replacing native plants and wildlife. The Canadian River supplies irrigation water to thousands of acres of agriculture land, provides for recreational opportunities, and is home to several indigenous wildlife species. Tamarisk is listed by both the State of New Mexico Department of Agriculture and the Federal government as a noxious weed. The State of New Mexico has identified tamarisk as a species that is causing an ecological crisis in several river systems throughout the state, including the Canadian River. Land owners both above and below the National Grassland segment of the Canadian River are in the process of treating their lands to control tamarisk using the same types of treatment methods. This effort would be coordinated with those other treatment efforts within this watershed.

Tamarisk is known to cause a change in ecological conditions that tend to eliminate native species and reduce water delivery, due to its ability to transpire large amounts of water during the growing season. Herbicide treatments have been shown to be an effective and efficient method for eradicating tamarisk and returning the riparian habitat to a healthy functioning ecosystem that is beneficial to both the biotic and human environments.

The Canadian River Canyon has been identified as an inventoried roadless area. The Canadian River also has eligibility status as a scenic river under the Wild and Scenic Rivers Act, and outstanding remarkable values would be protected until a decision is made on the future use of the river and adjacent lands or until an action is taken by Congress to designate the river as such.

DATES: Comments concerning the scope of the analysis must be received by June 15, 2005. The draft environmental impact statement is expected to be published in October, 2005, and the final environmental impact statement is expected in December 2005.

ADDRESSES: Send written comments to Deborah Walker, NEPA Coordinator; Cibola National Forest; 2113 Osuna Road NE; Albuquerque, NM 87113 or FAX to 505-346-3901. Copies of the proposed action, project location map, or the Environmental Impact Statement, when available, may be obtained from the Cibola National Forest; 2113 Osuna Road, NE; Albuquerque, NM 87113; or from the Kiowa National Grassland; 714 Main Street; Clayton, NM 88415, or from the Forest Web site at www.fs.fed.us/r3/cibola/projects/index.shtml.

FOR FURTHER INFORMATION CONTACT: For further information, mail correspondence to Deborah Walker, NEPA Coordinator; Cibola National Forest; 2113 Osuna Road NE; Albuquerque, NM 87113 or phone 505-346-3888.

SUPPLEMENTARY INFORMATION:

Purpose and Need for Action

The purpose of the Canadian River Tamarisk Control project is to:

1. Restore the hydrologic function of the Canadian River by eradicating tamarisk along the river corridor and tributaries using methods that have proven to be both safe and effective.

2. Re-establish native riparian species and the habitat it provides for wildlife.

3. Coordinate activities with adjacent landowners both above and below the Kiowa National Grassland boundary in an effort to control tamarisk within the entire Canadian River corridor.

Proposed Action

The Cibola National Forest, Kiowa National Grassland, proposes to apply imazapyr using aerial and backpack spray application methods to 16 miles of the Canadian River and tributaries. Aerial application would be made using a helicopter with spray boom on an estimated 380 acres where the tamarisk is very dense or where the stands are inaccessible to vehicles. Backpack spray (hand treatment) would be used after tamarisk has been cut with either chainsaws or tractor, and the herbicide is applied to the cut stump, or the herbicide is applied over the top of stems as a foliar application (estimated 160 acres). Backpack spray treatments would occur on Forest Service administered lands near the Mills Canyon campground and in areas where there is a predominance of native riparian vegetation that are accessible by existing roads or trails. A nonionic surfactant and drift control agent (vegetable oil based) would be mixed with imazapyr in order to improve effectiveness. An estimated 1 pound of acid equivalent of active ingredient would be applied per acre. Treatments would be applied between late July and late September. Re-treatments would be applied on a limited basis as needed to control re-sprouting tamarisk for up to five years following initial treatment. Dead trees would remain in place for a minimum of two growing seasons after which hazardous trees would be removed within the campground or other accessible places as needed for public safety.

Rehabilitation efforts following treatment would include replanting with native riparian species (i.e., cottonwood, willow, or maple) and reseeding areas disturbed by equipment with native grasses in order to stabilize soil and provide ground cover, as needed.

Resource protection measures that would be implemented as part of this proposal include protection of known historical sites, campground closure during treatments, mechanical and/or hand treatments near the campground, clean picnic tables following treatments, no operations during bird nesting season (April thru mid July), and use of best management practices to protect soil and water resources.

Possible Alternatives

At this time, the only alternative to the proposed action is the no action alternative, which would not propose any treatments within the Canadian River corridor to eradicate tamarisk. Additional alternatives may be included based on issues received during public scoping.

Responsible Official

The responsible official is Nancy Rose, Forest Supervisor, Cibola National Forest Supervisor's Office, 2113 Osuna Road NE, Albuquerque, NM 87113-1001.

Nature of Decision To Be Made

The decision to be made is whether to implement the proposed action as described above, to vary the design of the proposed action to meet the purpose and need through some other combination of activities, or to take no action at this time.

Scoping Process

The Council on Environmental Quality (CEQ) emphasizes an early and open process for determining the scope of issues to be addressed and for identifying significant issues related to the proposed action. As part of the scoping process, the lead agency shall invite the participation of affected Federal, State, and local agencies, any affected Indian tribe, and other interested persons (40 CFR 1501.7). In order to meet the intent of the CEQ regulations, the Cibola Forest will implement the following steps to ensure an early and open public involvement process:

1. Include the proposed action on the list of projects for annual tribal consultation. Address concerns identified during tribal consultation as part of the analysis.

2. Submit the proposed action to the public during scoping, and request comments or issues (points of dispute, debate, or disagreement) regarding the potential effects.

3. Include the proposal on the Cibola Schedule of Proposed Actions quarterly report.

4. Provide an opportunity for the public to comment during an open public meeting in the community of Roy, New Mexico, which is closest to the project area. Date and location is yet to be determined.

5. Use comments received to determine significant issues and additional alternatives to address within the analysis.

6. Consult with the U.S. Fish and Wildlife Service and the State Historical Preservation Office regarding potential affects to listed species and heritage sites.

7. Prepare and distribute a draft environmental impact statement for a 45-day public comment period.

Comment Requested

This notice of intent initiates the scoping process which guides the development of the environmental impact statement. Comments should focus on the nature of the action proposed and should be relevant to the decision under consideration. Comments received from the public will be evaluated for significant issues and used to assist in the development of additional alternatives.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. [Vermont Yankee Nuclear Power Corp. v. NRDC, 435 U.S. 519, 553 (1978)] Also, environmental objections that could be raised at the draft environmental impact statement stage but that are not raised until after completion of the final environmental impact statement may be waived or dismissed by the courts. [City of Angoon v. Hodel, 803 F.2d 1016, 1022 (9th Cir. 1986) and Wisconsin Heritages, Inc. v. Harris, 490 F. Supp. 1334, 1338 (E.D. Wis. 1980)] Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters in the draft statement. Comments may also address the adequacy of the draft environmental impact statement or the merits of the alternatives formulated and discussed in the statement. Reviewers may wish to refer to the Council on Environmental Quality regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: May 6, 2005.
Nancy Rose,
Forest Supervisor, Cibola National Forest.

[FR Doc. 05-9452 Filed 5-12-05; 8:45 am]

BILLING CODE 3410-11-P